DEPARTMENT OF HEALTH AND HUMAN SERVICES

National Institutes of Health

Center for Scientific Review; Amended Notice of Meeting

Notice is hereby given of a change in the meeting of the Center for Scientific Review Special Emphasis Panel, June 5, 2007, 8 a.m. to June 5, 2007, 1 p.m., Georgetown Suites, 1111 30th Street, NW., Washington, DC 2007 which was published in the Federal Register on April 24, 2007, 72 FR 20352-20354.

The meeting has been changed to “Clinical Studies in Digestive Diseases and Nutrition”. The meeting is closed to the public.

Dated: April 26, 2007.
Jennifer Spaeth,
Director, Office of Federal Advisory Committee Policy.

[FR Doc. 07-2189 Filed 5-3-07; 8:45 am]

BILLING CODE 4140-01-M